NATIONAL SCIENCE FOUNDATION

Proposal Review Panel in Advanced Computational Infrastructure and Research Notice of Meeting

In accordance with the Federal Advisory Committee Act (Pub. L. 92-463, as amended), the National Science Foundation announces the following meeting. This meeting was originally scheduled for September 18 and 19, 2003 and had to be cancelled due to Hurricane Isabel.

Name: Proposal Review Panel in Advanced Computational Infrastructure & Research (#1185).

Date & Time: October 23, 2003; 8 a.m.-5 p.m.—October 24, 2003; 8 a.m.-4 p.m.

Place: ACCESS Center, 901 N. Stuart Street, 8th Floor, Arlington, VA 22203.

Type of Meeting: Open.

For Further Information Contact: Richard Hilderbrandt, Program Director, Division of Advanced Computational Infrastructure and Research, Suite 1112, National Science Foundation, 4201 Wilson Boulevard, Arlington, VA 22230, Tel: (703) 292-8963, e-mail: rhilderb@nsf.gov.

Purpose of Meeting: To perform a reverse site visit to review and provide advice and recommendations on ACI program plans and review progress reports for NPACI, NCSA and PSC as part of the PACI activity.

Agenda: To review and evaluate annual reports and program plans.

Dated: October 3, 2003.
Susanne Bolton,
Committee Management Officer.

[FR Doc. 03-25499 Filed 10-7-03; 8:45 am]

BILLING CODE 7555-01-M